DEPARTMENT OF COMMERCE

National Oceanic and Atmospheric Administration

[RTID 0648-XB144]

New England Fishery Management Council; Public Meeting

AGENCY: National Marine Fisheries Service (NMFS), National Oceanic and Atmospheric Administration (NOAA), Commerce.

ACTION: Notice of public meeting.

SUMMARY: The New England Fishery Management Council (Council, NEFMC) will hold a three-day meeting to consider actions affecting New England fisheries in the exclusive economic zone (EEZ). Due to ongoing public safety considerations related to COVID-19, this meeting will be conducted entirely by webinar.

DATES: The webinar meeting will be held on Tuesday, Wednesday, and Thursday, June 22-24, 2021, beginning at 9 a.m. each day.

ADDRESSES: All meeting participants and interested parties can register to join the webinar at https://attendee.gotowebinar.com/register/575795962545827087.

Council address: New England Fishery Management Council, 50 Water Street, Mill 2, Newburyport, MA 01950; telephone: (978) 465-0492; www.nefmc.org.

FOR FURTHER INFORMATION CONTACT: Thomas A. Nies, Executive Director, New England Fishery Management Council; telephone: (978) 465-0492, ext. 113.

SUPPLEMENTARY INFORMATION:

Agenda

Tuesday, June 22, 2021

After introductions and brief announcements, the Council will receive reports on recent activities from its Chairman and Executive Director, NMFS's Greater Atlantic Regional Fisheries Office (GARFO) Regional Administrator, the Northeast Fisheries Science Center (NEFSC) Director, the Mid-Atlantic Fishery Management Council liaison, staff from the Atlantic States Marine Fisheries Commission (ASMFC), and representatives from NOAA General Counsel, the U.S. Coast Guard, NOAA's Office of Law Enforcement, the Stellwagen Bank National Marine Sanctuary, and the Northeast Trawl Advisory Panel. Next, members of the public will have the opportunity to speak during an open comment period on issues that relate to Council business but are not included on the published agenda for this meeting. The Council asks the public to limit remarks to 3-5 minutes. These comments will be received through the webinar. A guide for how to publicly comment through the webinar is available on the Council website at https://s3.amazonaws.com/nefmc.org/NEFMC-meeting-remote-participation_generic.pdf. Following the public comment period, the Council will: (1) Receive a briefing from the Acting NOAA Fisheries Assistant Administrator on a draft White House report titled “Conserving and Restoring America the Beautiful”; and (2) discuss how it applies to fisheries. Related to this report, the Council also will discuss the Council Coordination Committee's (CCC) decision to form a CCC subcommittee on area-based management to address items in the draft White House report related to increasing fisheries conservation through expanded usage of area-based management. Next, the Council will receive a presentation on a draft NMFS procedural directive on applying information law to electronic monitoring (EM) data in U.S. fisheries. The Council will approve comments on the draft directive.

Following the lunch break, the Council will receive the Habitat Committee Report, which will include: (1) Updates from GARFO, NEFSC, and the Bureau of Ocean Energy Management (BOEM) on offshore wind-related projects and activities; and (2) updates on the Council's habitat-related work, including efforts to revise the Council's Wind Energy Policy. The Scallop Committee Report will be next. The Council will discuss and approve research priorities for the 2022-23 Scallop Research Set-Aside (RSA) Program. It also will initiate Framework Adjustment 34 to the Atlantic Sea Scallop Fishery Management Plan (FMP), which will include 2022 fishery specifications, 2023 default specifications, and other measures. Additionally, the Council will receive a short update on work being done to evaluate the scallop fishery's rotational area management program. Finally, the Council will review a letter from the Scallopers Campaign that was sent to NMFS requesting secretarial action to implement a scallop leasing program. At the request of GARFO, the Council will approve a response to this letter. As the final order of business for the day, the Council will receive an update from GARFO on the 2021 Atlantic Sea Scallop Biological Opinion to address turtle interactions in the fishery.

Wednesday, June 23, 2021

The Council will start off the day with a progress report from its Atlantic Herring Committee, which will begin with a discussion of Framework Adjustment 9 to the Atlantic Herring FMP. First, the Council will: (1) Receive the Scientific and Statistical Committee's (SSC) recommendations on herring rebuilding plan alternatives to address the overfished status of Atlantic herring; and (2) receive an update on the framework's rebuilding plan alternatives, as well as measures to potentially adjust herring accountability measures. Second, the Council will receive an update on Framework Adjustment 7, which is an action to protect adult spawning herring on Georges Bank. Next, the Council will take up 2021-25 Council Research Priorities by first hearing the SSC's recommendations on research priorities and then discussing and approving the final list.

Following the lunch break, the Council will receive the Groundfish Report, which will cover three items. The first item relates to acceptable biological catch (ABC) control rules. The Council will receive a presentation on a draft report titled “Evaluation of Alternative Harvest Control Rules for New England Groundfish,” which will be followed by the SSC's comments on the ABC control rule presentation and report. The Council then will discuss the draft report, as well as the SSC's comments, and provide further guidance as needed on the work being done to evaluate an alternative ABC control rule for groundfish. Next, the Council will receive a progress report on the Atlantic Cod Stock Structure Working Groups' public workshops and other activities. Then, the Council will initiate Framework Adjustment 62 to the Groundfish FMP, which will include (1) 2022 total allowable catches (TACs) for U.S./Canada shared resources on Georges Bank (GB), (2) 2022-24 specifications for GB cod, Gulf of Maine (GOM) cod, GB haddock, and GOM haddock, (3) 2022-23 specifications for GB yellowtail and 2022 specifications for white hake, and (4) other measures. The Council then will adjourn for the day.

Thursday, June 24, 2021

The Council will begin the third day of its meeting with the Skate Committee Report, which will include three items: (1) An update on 2022-23 specifications; (2) an update on Amendment 5 to the Northeast Skate Complex FMP; and (3) consideration of updating the existing control dates for both the skate wing and skate bait fisheries. Then, the Council will discuss and approve comments on a draft NMFS policy directive and procedural guidance for financial disclosures and recusals for regional fishery management councils. Next, the Council will hear from its Ecosystem-Based Fishery Management (EBFM) Management Strategy Evaluation (MSE) Steering Committee. The Council will review and approve the Steering Committee's plan for informational workshops using public outreach materials and focusing on potential application to a Georges Bank example Fishery Ecosystem Plan (eFEP).

Following the lunch break, the Council will be briefed on the NOAA Fisheries Southeast Region's for-hire electronic reporting requirements and their application to New England recreational party/charter vessels that possess permits for South Atlantic species. Next, the Council will receive a presentation from the NMFS Highly Migratory Species (HMS) Management Division on Amendment 13 to the Consolidated HMS Fishery Management Plan, which focuses on bluefin tuna issues. The Council will discuss and approve comments on this proposed rule. Immediately following, the Council will receive reports on recent meetings of NMFS's HMS Advisory Panel and the Advisory Committee to the U.S. Section of the International Commission for the Conservation of Atlantic Tunas. The Council then will close out the meeting with other business.

Although non-emergency issues not contained on this agenda may come before the Council for discussion, those issues may not be the subject of formal action during this meeting. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

This meeting is being conducted entirely by webinar. Requests for auxiliary aids should be directed to Thomas A. Nies (see ADDRESSES) at least 5 days prior to the meeting date.

Authority: 16 U.S.C. 1801 et seq.

Dated: June 3, 2021.
Tracey L. Thompson,
Acting Deputy Director, Office of Sustainable Fisheries, National Marine Fisheries Service.

[FR Doc. 2021-11986 Filed 6-7-21; 8:45 am]

BILLING CODE 3510-22-P